DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, e-mail paperwork@hrsa.gov or call the HRSA Reports Clearance Office at (301) 443-1129.

The following request has been submitted to the Office of Management and Budget for review under the Paperwork Reduction Act of 1995:

Proposed Project: Reconciliation Tool for the Teaching Health Center Graduate Medical Education Program—[NEW]

The Teaching Health Center Graduate Medical Education (THCGME) program, Section 340H of the Public Health Service (PHS) Act, was established by Section 5508 of Public Law 111-148. The program supports training for primary care residents (including residents in family medicine, internal medicine, pediatrics, internal medicine-pediatrics, obstetrics and gynecology, psychiatry, general dentistry, pediatric dentistry, and geriatrics) in community-based ambulatory patient care settings. The statute provides that eligible teaching health centers receive payments for both direct and indirect costs associated with training residents in community-based ambulatory patient care centers. Direct payments are designed to compensate eligible teaching health centers for those expenses directly associated with resident training, while indirect payments are intended to compensate for the additional costs of training residents in such programs. Payments are made at the beginning of the funding cycle; however, the statute provides for a reconciliation process, through which overpayments may be recouped and underpayments may be adjusted at the end of the fiscal year. This data collection instrument will gather information relating to the numbers of residents in THCGME training programs in order to reconcile payments for both direct and indirect costs.

The Annual Estimate of Burden

Instrument name | Number of respondents | Number of responses per respondent | Total responses | Hours per response | Total burden hours
THC Reconciliation Tool | 51 | 1 | 51 | 5 | 255
Total | 51 |  | 51 | 5 | 255

Written comments and recommendations concerning the proposed information collection should be sent within 30 days of this notice to the desk officer for HRSA, either by e-mail to OIRA_submission@omb.eop.gov or by fax to 202-395-6974. Please direct all correspondence to the “Attention of the desk officer for HRSA.”

Dated: May 23, 2011.
Jennifer Riggle,
Deputy Director, Office of Management.

[FR Doc. 2011-13209 Filed 5-26-11; 8:45 am]

BILLING CODE 4165-15-P